DEPARTMENT OF TRANSPORTATION

Federal Aviation Administration

14 CFR Part 39

[Docket No. 2002-NM-182-AD; Amendment 39-13882; AD 2004-24-06]

RIN 2120-AA64

Airworthiness Directives; Saab Model SAAB SF340A and SAAB 340B Series Airplanes

AGENCY: Federal Aviation Administration, DOT.

ACTION: Final rule; correction.

SUMMARY: This document corrects a typographical error that appeared in airworthiness directive (AD) 2004-24-06 that was published in the Federal Register on November 30, 2004 (69 FR 69505). The typographical error resulted in incorrect reference to certain main landing gear (MLG) part numbers as retract actuator bracket attachment bolt (RABAB) part numbers. This AD is applicable to certain Saab Model SAAB SF340A and SAAB 340B series airplanes. This AD requires replacement of the RABAB of the MLG with a new RABAB; reidentification of the MLG shock strut; an inspection for corrosion, fretting, or other damage of certain RABABs; and applicable corrective actions.

DATES: Effective January 4, 2005.

FOR FURTHER INFORMATION CONTACT: Dan Rodina, Aerospace Engineer; International Branch, ANM-116, FAA, Transport Airplane Directorate, 1601 Lind Avenue, SW., Renton, Washington 98055-4056; telephone (425) 227-2125; fax (425) 227-1149.

SUPPLEMENTARY INFORMATION: Airworthiness Directive (AD) 2004-24-06, amendment 39-13882, applicable to certain Saab Model SAAB SF340A and SAAB 340B series airplanes, was published in the Federal Register on November 30, 2004 (69 FR 69505). That AD requires replacement of the retract actuator bracket attachment bolt (RABAB) of the main landing gear (MLG) with a new RABAB; reidentification of the MLG shock strut; an inspection for corrosion, fretting, or other damage of certain RABABs; and applicable corrective actions.

As published, the AD contains an incorrect reference to the old RABAB part number. Instead of the RABAB part number, certain MLG assembly part numbers were listed as RABAB part numbers.

Since no other part of the regulatory information has been changed, the final rule is not being republished in the Federal Register.

The effective date of this AD remains January 4, 2005.

§ 39.13 [Corrected]

In the Federal Register of November 30, 2004, on page 69506, make the following corrections:

1. In the first column, following instruction 2, the airworthiness directive number “2004-24-067” is corrected to read “2004-24-06”;

2. In the second column, paragraph (c) of this AD 2004-24-06 is corrected to read as follows:

* * * * *

(c) As of the effective date of this AD, no person may install a MLG shock strut, part number (P/N) AIR83022-5 through -18 inclusive, or P/N AIR83064-1 through -5 inclusive, on any airplane; and no person may install a RABAB, P/N AIR124792, on any MLG shock strut.

* * * * *

Issued in Renton, Washington, on December 21, 2004.
Kevin M. Mullin,
Acting Manager, Transport Airplane Directorate, Aircraft Certification Service.

[FR Doc. 04-28653 Filed 12-28-04; 1:42 pm]

BILLING CODE 4910-13-P